SMALL BUSINESS ADMINISTRATION

[Disaster Declaration #15553 and #15554; NEW JERSEY Disaster Number NJ-00048]

Presidential Declaration Amendment of a Major Disaster for Public Assistance Only for the State of New Jersey

AGENCY: U.S. Small Business Administration.

ACTION: Amendment 1.

SUMMARY: This is an amendment of the Presidential declaration of a major disaster for Public Assistance Only for the State of New Jersey (FEMA-4368-DR), dated 06/08/2018.

Incident: Severe Winter Storm and Snowstorm.

Incident Period: 03/06/2018 through 03/07/2018.

DATES: Issued on 07/13/2018.

Physical Loan Application Deadline Date: 08/07/2018.

Economic Injury (EIDL) Loan Application Deadline Date: 03/08/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of NEW JERSEY, dated 06/08/2018, is hereby amended to include the following areas as adversely affected by the disaster.

Primary Counties: Burlington

All other information in the original declaration remains unchanged.

(Catalog of Federal Domestic Assistance Number 59008)

James Rivera,
Associate Administrator for Disaster Assistance.

[FR Doc. 2018-15588 Filed 7-19-18; 8:45 am]

BILLING CODE 8025-01-P